DEPARTMENT OF HEALTH AND HUMAN SERVICES

Food and Drug Administration

Consumer Briefing on Bovine Spongiform Encephalopathy (BSE) and Transmissible Spongiform Encephalopathies (TSE)

AGENCY: Food and Drug Administration, HHS.

ACTION: Notice of meeting.

The Food and Drug Administration (FDA) is announcing the following consumer meeting: Consumer Briefing on Bovine Spongiform Encephalopathy (BSE) and Transmissible Spongiform Encephalopathies (TSE). This briefing is the first in a series of consumer briefings on the consumer protection priorities discussed by the agency and consumers at the December 13, 2000, Consumer Roundtable on Consumer Protection Priorities meeting. These consumer briefings enable the agency and consumers to sustain a dialogue on FDA priorities of high consumer interest in the spirit of openness, transparency, and participation. This consumer briefing will provide an update on FDA's efforts to ensure the safety of products that may contain or are manufactured with bovine-derived ingredients.

Date and Time: The briefing will be held on April 16, 2001, 1 p.m. to 4:30 p.m. Registration will open at 12 noon.

Location: The briefing will be held at Holiday Inn Capitol, Columbia II, 550 C St., SW., Washington, DC.

Contact: Karen R. Mahoney, Office of Consumer Affairs (HFE-88), Food and Drug Administration, 5600 Fishers Lane, Rockville, MD 20857, 301-827-4393, FAX 301-827-2866, e-mail: Kmahoney@oc.fda.gov.

Registration: Preregistration is required as space is very limited. Send registration information (including name, title, organization/firm name, address, telephone, fax number and e-mail) to the contact person by April 13, 2001. Preregistered consumer attendees will be given first priority for seating.

If you need any special accommodations due to disability, please contact Karen R. Mahoney (address above) by April 13, 2001.

Transcripts: Transcripts of the meeting may be requested in writing from the Freedom of Information Office (HFI-35), Food and Drug Administration, 5600 Fishers Lane, rm. 12A-16, Rockville, MD 20857, approximately 15 working days after the meeting at a cost of 10 cents a page.

SUPPLEMENTARY INFORMATION: The consumer briefing is an opportunity for the agency to meet with consumers and to discuss issues and concerns as well as how FDA and consumers can work together to keep consumers informed and involved.

Procedure: The briefing is open to the public. There will be an open public session at the conclusion of the briefing where interested persons can respond to the topics and issues discussed during the briefing.

Dated: March 27, 2001.
Ann M. Witt,
Acting Associate Commissioner for Policy.

[FR Doc. 01-8062 Filed 4-2-01; 8:45 am]

BILLING CODE 4160-01-S